DEPARTMENT OF AGRICULTURE

Animal and Plant Health Inspection Service

7 CFR Part 319

[Docket No. 03-002-6]

RIN 0579-AC51

Importation of Nursery Stock; Technical Amendment

AGENCY: Animal and Plant Health Inspection Service, USDA.

ACTION: Final rule; technical amendment.

SUMMARY: In a final rule that was published in the Federal Register on August 6, 2007, and effective on September 5, 2007, we amended the regulations governing the importation of nursery stock by making several changes, including allowing the importation of restricted articles in tissue culture medium that is not transparent or translucent. It was our intent that the amended regulations only allow the use of agar or agar-like tissue culture medium. In this amendment, we are amending the regulation to clarify that intent.

EFFECTIVE DATE: November 30, 2007.

FOR FURTHER INFORMATION CONTACT: Dr. Arnold T. Tschanz, Senior Import Specialist, Commodity Import Analysis and Operations, PPQ, APHIS, 4700 River Road Unit 133, Riverdale, MD 20737-1236; (301) 734-5306.

SUPPLEMENTARY INFORMATION:

Background

In a final rule published in the Federal Register on August 6, 2007, that was effective September 5, 2007 (72 FR 43503-43524, Docket No. 03-002-3), we amended the regulations governing the importation of nursery stock by making several changes, including allowing the importation of restricted articles in tissue culture medium that is not transparent or translucent. Before the effective date of the final rule, the regulations in paragraph (c) of § 319.37-8 had stated: “A restricted article growing solely in agar or in other transparent or translucent tissue culture medium may be imported established in such growing media.” The final rule removed the words “transparent or translucent” from this sentence.

It was our intent to remove this restriction only for agar-like tissue culture media. In the proposed rule and final rule, we indicated that bacteria in a tissue culture medium that was not transparent or translucent would quickly reproduce and form a large mass that would be visible during inspection; such a bacterial mass would only be visible in agar-like tissue culture media. Before the final rule became effective, the restriction that any tissue culture media other than agar must be transparent or translucent had effectively restricted the use of tissue culture media other than agar to agar-like tissue culture media.

In removing the requirement that the tissue culture media be transparent or translucent, we neglected to specify that any tissue culture media other than agar should be similar to agar if a restricted article is intended to be imported established in growing media. This has created confusion among exporters. Therefore, we are amending paragraph (c) of § 319.37-8 to read:

“A restricted article growing solely in agar or in other agar-like tissue culture medium may be imported established in such growing media.”

List of Subjects for 7 CFR Part 319

Coffee, Cotton, Fruits, Imports, Logs, Nursery stock, Plant diseases and pests, Quarantine, Reporting and recordkeeping requirements, Rice, Vegetables.

Accordingly, we are amending 7 CFR part 319 as follows:

PART 319—FOREIGN QUARANTINE NOTICES

1. The authority citation for part 319 continues to read as follows:

Authority: 7 U.S.C. 450, 7701-7772, and 7781-7786; 21 U.S.C. 136 and 136a; 7 CFR 2.22, 2.80, and 371.3.

§ 319.37-8 [Amended]

2. In § 319.37-8, paragraph (c) is amended by adding the word “agar-like” before the word “tissue”.

Done in Washington, DC, this 26th day of November 2007.
Kevin Shea,
Acting Administrator, Animal and Plant Health Inspection Service.

[FR Doc. E7-23282 Filed 11-29-07; 8:45 am]

BILLING CODE 3410-34-P